DEPARTMENT OF TRANSPORTATION

Federal Aviation Administration

Notice of Availability of a Final Environmental Assessment (Final EA) and a Finding of No Significant Impact (FONSI)/Record of Decision (ROD) for a Proposed Airport Traffic Control Tower and Base Building at Kalamazoo/Battle Creek International Airport, Portage City, MI

AGENCY: Federal Aviation Administration (FAA), DOT.

ACTION: Notice of Availability of a Final Environmental Assessment (Final EA) and Finding of No Significant Impact (FONSI)/Record of Decision (ROD) for a Proposed Airport Traffic Control Tower and Base Building at Kalamazoo/Battle Creek International Airport, Portage City, Michigan.

SUMMARY: The Federal Aviation Administration (FAA) is issuing this notice to advise the public that the FAA has prepared, and approved on April 16, 2010, a Finding of No Significant Impact (FONSI)/Record of Decision (ROD) based on the Final Environmental Assessment (Final EA) for a Proposed Airport Traffic Control Tower (ATCT) with Associated Base Building at Kalamazoo/Battle Creek International Airport (AZO), Portage City, Michigan. The FAA prepared the Final EA in accordance with the National Environmental Policy Act and the FAA's regulations and guidelines for environmental documents and it was signed on April 9, 2010. Copies of the FONSI/ROD and/or Final EA are available by contacting Ms. Virginia Marcks through the contact information provided below.

FOR FURTHER INFORMATION CONTACT: Ms. Virginia Marcks, Manager, Infrastructure Engineering Center, AJW-C14D, Federal Aviation Administration, 2300 East Devon Avenue, Des Plaines, Illinois 60018. Telephone number: (847) 294-7494.

SUPPLEMENTARY INFORMATION: The Final EA evaluated the construction and operation of a new ATCT at AZO. The ATCT would be located on vacant land in the northeast quadrant of AZO, east of main Runway 17/35 and between Runways 23 and 27. The ATCT site will occupy approximately 9.28 acres, and is 857 feet above mean sea level. The new ATCT will be a Low Activity Level facility with a 395-square-foot cab accommodating two operational positions and two support positions. The new ATCT will improve visibility of airport surfaces, have the capability to meet future operational and administrative expansion requirements, and increase the efficient functionality of the facility. In addition to the ATCT, the Final EA evaluated the construction and operation of a new 20,000-square-foot standard design Terminal Radar Approach Control Facility/Base Building conforming to the guidelines of the Terminal Facilities Design Standards for Base Building and Environmental Support Buildings with modified space designations and minor room sizing. The Base Building would meet current and future administrative space requirements. The project also includes, and the Final EA evaluated, construction of a paved parking area next to the Base Building, relocation of a portion of the existing airport perimeter road approximately 40 feet to the west of its current location, construction of a new paved access drive from East Kilgore Road to the ATCT site, construction of a 10-foot fence around the entire facility and a new fence from East Kilgore Road to the facility, Dopplerization of the Very High Frequency Omni-Directional Range facility, lease of the ATCT parcel from the airport, approval of Federal funding for the project, and update of the Airport Layout Plan.

The Final EA has been prepared in accordance with the National Environmental Policy Act (NEPA) of 1969, as amended, and FAA Order 1050.1E, “Environmental Impacts: Policies and Procedures.” In addition, FAA Order 5050.4B, “National Environmental Policy Act (NEPA) Implementing Instructions for Airport Actions” has been used as guidance in the preparation of the environmental analysis.

Issued in Des Plaines, Illinois, on July 13, 2010.
Virginia Marcks,
Manager, Infrastructure Engineering Center, Chicago, AJW-C14D, Federal Aviation Administration.

[FR Doc. 2010-17938 Filed 7-21-10; 8:45 am]

BILLING CODE 4910-13-P